DEPARTMENT OF THE INTERIOR

Bureau of Land Management

[PO4820000251]

Agency Information Collection Activities; Submission to the Office of Management and Budget for Review and Approval; Color-of-Title Application

AGENCY: Bureau of Land Management, Interior.

ACTION: Notice of information collection; request for comment.

SUMMARY: In accordance with the Paperwork Reduction Act of 1995, the Bureau of Land Management (BLM) proposes to renew an information collection.

DATES: Interested persons are invited to submit comments on or before February 7, 2025.

ADDRESSES: Written comments and recommendations for the proposed Information Collection Request (ICR) should be sent within 30 days of publication of this notice to www.reginfo.gov/public/do/PRAMain. Find this particular information collection by selecting “Currently under 30-day Review—Open for Public Comments” or by using the search function.

FOR FURTHER INFORMATION CONTACT: To request additional information about this ICR, contact Jeff Holdren by email at jholdren@blm.gov, or by telephone at (703) 360-9739. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on July 29, 2024 (89 FR 60912).

As part of our continuing effort to reduce paperwork and respondent burdens, we are again soliciting comments from the public and other Federal agencies on the proposed ICR that is described below. We are especially interested in public comment addressing the following:

(1) Whether the collection of information is necessary for the proper performance of the functions of the agency, including whether the information will have practical utility;

(2) The accuracy of our estimate of the burden for this collection of information, including the validity of the methodology and assumptions used;

(3) Ways to enhance the quality, utility, and clarity of the information to be collected; and

(4) How the agency could minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The BLM collects and uses the information to determine the validity of a claim under the Color-of-Title Act. The following forms comprise an application in support of a Color-of-Title claim: (a) 2540-001, Color-of-Title Application; (b) 2540-002, Conveyances Affecting Color or Claim of Title; and (c) 2540-003, Color-of-Title Tax Levy and Payment Record. OMB control number 1004-0029 is scheduled to expire on April 30, 2025. This request is for OMB to renew this OMB control number for an additional three (3) years.

Title of Collection: Color-of-Title Application (43 CFR Subparts 2540 and 2541).

OMB Control Number: 1004-0029.

Form Numbers: 2540-001; 2540-002, and 2540-003.

Type of Review: Extension of a currently approved collection.

Respondents/Affected Public: Individuals, groups, or corporations that wish to claim title to a tract of public land on grounds that such land has been held in good faith and in peaceful, adverse possession under claim or color of title, and have placed valuable improvements on such land or some part thereof has been reduced to cultivation for an amount of time sufficient under the Color-of-Title Act, 43 U.S.C. 1068, et seq.

Total Estimated Number of Annual Respondents: 8.

Total Estimated Number of Annual Responses: 8.

Estimated Completion Time per Response: 3 hours.

Total Estimated Number of Annual Burden Hours: 24.

Respondent's Obligation: Required to obtain or retain a benefit.

Frequency of Collection: On occasion.

Total Estimated Annual Nonhour Burden Cost: $80.

An agency may not conduct or sponsor and, notwithstanding any other provision of law, a person is not required to respond to a collection of information unless it displays a currently valid OMB control number.

The authority for this action is the Paperwork Reduction Act of 1995 (44 U.S.C. 3501 et seq.).

Darrin A. King,
Information Collection Clearance Officer.

[FR Doc. 2025-00132 Filed 1-7-25; 8:45 am]

BILLING CODE 4310-84-P